ENVIRONMENTAL PROTECTION AGENCY

[ER-FRL-6690-9]

Environmental Impacts Statements; Notice of Availability

Responsible Agency: Office of Federal Activities, General Information (202) 564-7167 or http://www.epa.gov/compliance/nepa/.

Weekly receipt of Environmental Impact Statements Filed 09/03/2007 Through 09/07/2007 Pursuant to 40 CFR 1506.9.

EIS No. 20070379, Final EIS, AFS, AK, Baht Timber Sale Project, Proposes to Harvest Timber and Temporary Road Construction on Zarembo Island, Wrangell Ranger District, Tongass National Forest, AK. Wait Period Ends: 10/15/2007. Contact: Frank Roberts 907-874-7556.

EIS No. 20070380, Final EIS, AFS, NV, White Pine & Grant-Quinn Oil and Gas Leasing Project, Exploration and Development, Humboldt-Toiyabe National Forest, Ely Ranger District, White Pine, Nye and Lincoln Counties, NV. Wait Period Ends: 10/15/2007. Contact: Pat Irwin 775-289-3031.

EIS No. 20070381, Final EIS, AFS, AK, Kenai Winter Access Project, Develop a Winter Access Management Plan for 2006/2007 Winter Season, Implementation, Seward Ranger District, Chugach National Forest, Located on the Kenai Peninsula in Southcentral, AK. Wait Period Ends: 10/15/2007. Contact: Sharon Randell 907-743-9497.

EIS No. 20070382, Final EIS, AFS, SD, Citadel Project Area, Proposes to Implement Multiple Resource Management Actions, Northern Hills Ranger District, Black Hills National Forest, Lawrence County, SD. Wait Period Ends: 10/15/2007. Contact: Chris Stores 605-642-4622.

EIS No. 20070383, Second Draft Supplement, BLM, UT, Price Field Resource Management Plan, Supplemental Information for Non-Wilderness Study Area (WSA) Lands with Wilderness Characteristics. Implementation, Carbon and Emery Counties, UT. Comment Period Ends: 12/12/2007. Contact: Floyd Johnson 435-636-3600.

EIS No. 20070384, Final Supplement, FHW, GA, US 411 Connector, From US411/GA-20 Interchange with US41 to US 411 Interchange with I-75, Updated Information, Funding and US Army COE Section 404 Permit, Bartow County, GA. Wait Period Ends: 10/15/2007. Contact: Jennifer Giersch 404-373-1680. EIS No. 20070385, Draft EIS, FHW, 00, Peace Bridge Expansion Project, Capacity Improvement to the Peace Bridge, Plazas and Connecting Roadways, U.S. Coast Guard Bridge Permit, U.S. Army COE section 10 and 404 Permits. City of Buffalo, Erie County, NY and Town of Fort Erie, Ontario, Canada, Comment Period Ends: 10/29/2007. Contact: Amy Jackson-Grove 518-431-4131.

EIS No. 20070386, Draft EIS, NRC, GA, Vogtle Electric Generating Plant Site, Issuance of an Early Site Permit (ESP) for Construction and Operation of a New Nuclear Power Generating Facility, NUREG-1872, Burke County, GA, Comment Period Ends: 11/28/2007. Contact: Mark D. Notich 301-415-3053.

EIS No. 20070387, Final EIS, AFS, CA, Little Doe and Low Gulch Timber Sale Project, Proposes to Harvest Commercial Timber, Six Rivers National Forest, Mad River Ranger District, Trinity County, CA. Wait Period Ends: 10/15/2007. Contact: Ruben Escatell 707-574-6233.

Amended Notices

EIS No. 20070278, Draft EIS, FHW, CA, Tier 1—Placer Parkway Corridor Preservation Project, Select and Preserve a Corridor for the Future Construction from CA-70/99 to CA 65, Placer and Sutter Counties, CA, Comment Period Ends: 09/25/2007. Contact: Cesar Perez 916-498-5065. Revision of FR Notice Published 07/06/2007. Extending Comment Period from 09/10/2007 to 09/25/2007.

Dated: September 11, 2007.
Ken Mittelholtz,
Environmental Protection Specialist, Office of Federal Activities.

[FR Doc. E7-18188 Filed 9-13-07; 8:45 am]

BILLING CODE 6560-50-P